DEPARTMENT OF COMMERCE

National Oceanic and Atmospheric Administration

RIN 0648-XG564

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a meeting of its Ad Hoc Red Snapper and Grouper-Tilefish Individual Fishing Quota (IFQ) Advisory Panel.

DATES: The meeting will convene on Wednesday, November 7, 2018; starting 8:30 a.m. and will adjourn at 5 p.m.

ADDRESSES: The meeting will be held at the Gulf Council's office, 4107 W Spruce Street, Suite 200, Tampa, FL 33607; telephone: (813) 348-1630.

FOR FURTHER INFORMATION CONTACT: Dr. Ava Lasseter, Anthropologist, Gulf of Mexico Fishery Management Council; ava.lasseter@gulfcouncil.org, telephone: (813) 348-1630.

SUPPLEMENTARY INFORMATION: The items of discussion on the agenda are as follows:

Agenda

Wednesday, November 7, 2018, 8:30 a.m. until 5 p.m.

1. Introductions and Adoption of Agenda

2. Approval of April 10, 2018 meeting summary

3. Scope of Work

4. Presentations on National Quota Banks

5. Reef Fish Amendment 36B: Modifications to Commercial IFQ Programs

6. Other Business

—Meeting Adjourns

The Agenda is subject to change, and the latest version along with other meeting materials will be posted on www.gulfcouncil.org as they become available.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: October 17, 2018.
Tracey L. Thompson,
Acting Deputy Director, Office of Sustainable Fisheries, National Marine Fisheries Service.

[FR Doc. 2018-22993 Filed 10-19-18; 8:45 am]

BILLING CODE 3510-22-P